DEPARTMENT OF TRANSPORTATION

Federal Aviation Administration

14 CFR Part 39

[Docket No. FAA-2015-3141; Directorate Identifier 2014-NM-242-AD; Amendment 39-18516; AD 2016-10-05]

RIN 2120-AA64

Airworthiness Directives; The Boeing Company Airplanes

AGENCY: Federal Aviation Administration (FAA), DOT.

ACTION: Final rule.

SUMMARY: We are adopting a new airworthiness directive (AD) for all The Boeing Company Model 757 airplanes. This AD was prompted by a report of cracking in the fuselage frame. This AD requires inspections for cracking in the fuselage frame, left and right sides, and repair if necessary. We are issuing this AD to detect and correct fuselage frame fatigue cracking. Such cracking could result in loss of structural integrity and the inability to sustain loading conditions.

DATES: This AD is effective June 20, 2016.

The Director of the Federal Register approved the incorporation by reference of a certain publication listed in this AD as of June 20, 2016.

ADDRESSES: For service information identified in this final rule, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-3141.

Examining the AD Docket

You may examine the AD docket on the Internet at http://www.regulations.gov by searching for and locating Docket No. FAA-2015-3141; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Roger Durbin, Aerospace Engineer, Airframe Branch, ANM-120L, FAA, Los Angeles Aircraft Certification Office (ACO), 3960 Paramount Boulevard, Lakewood, CA 90712-4137; phone: 562-627-5233; fax: 562-627-5210; email: roger.durbin@faa.gov.

SUPPLEMENTARY INFORMATION:

Discussion

We issued a notice of proposed rulemaking (NPRM) to amend 14 CFR part 39 by adding an AD that would apply to all The Boeing Company Model 757 airplanes. The NPRM published in the Federal Register on August 19, 2015 (80 FR 50230) (“the NPRM”). The NPRM was prompted by reports of cracking in the fuselage frame at Station (STA) 1440, stringer 24L. The NPRM proposed to require inspections for cracking in the fuselage frame, left and right sides, and repair if necessary. We are issuing this AD to detect and correct fuselage frame fatigue cracking. Such cracking could result in loss of structural integrity and the inability to sustain loading conditions.

Comments

We gave the public the opportunity to participate in developing this AD. The following presents the comments received on the NPRM and the FAA's response to each comment.

Request To Revise Paragraph (g) for Clarity and Consistency

Boeing requested that we revise paragraph (g) of the proposed AD to change it from “frames at stringer 24 and stringer 25, left and right sides,” to state, “frames in Section 43 at stringer 25, left and right sides, and frames in Section 46 at stringer 24, left and right sides.”

We agree with the comment as it adds clarity and makes the AD consistent with the required Accomplishment Instructions of Boeing Alert Service Bulletin 757-53A0099, dated September 18, 2014. We have revised the introductory text to paragraph (g) of this AD accordingly.

Request To Revise Paragraph (g)(1) To Make Exceptions for Repaired Areas

Boeing requested that we revise paragraph (g)(1) of the proposed AD from “repeat the inspections at intervals not to exceed 12,000 flight cycles,” to state, “repeat the inspections of frame areas at intervals not to exceed 12,000 flight cycles in areas that have not been repaired as a result of this service bulletin.”

We disagree with the commenter's proposal to make exceptions for areas repaired using the procedures described in the service bulletin, where we assume that the commenter is referring to Boeing Alert Service Bulletin 757-53A0099, dated September 18, 2014. We have not received repair data for cracks detected as a result of the inspections required by this AD, and therefore cannot make a determination that any such repair is terminating action for the required inspections. We will consider requests for alternative methods of compliance (AMOCs) with supporting repair data, which may include termination of the required inspections, or alternate inspection intervals and methods, as required, to address the unsafe condition.

Request To Delay AD for Service Bulletin Revision

United Airlines and United Parcel Service requested to delay the AD until approved repair information could be included in a revision of Boeing Alert Service Bulletin 757-53A0099, dated September 18, 2014. One commenter noted that its cargo operations often required frame repairs and the lack of approved repair configurations would require unnecessary AMOC requests.

We do not agree to delay issuance of this final rule for a revision to Boeing Alert Service Bulletin 757-53A0099, dated September 18, 2014, to include repair data. Including the repair data will only delay necessary inspections required to address the unsafe condition. The number of positive findings requiring repairs is unknown at this time, and therefore the value of delaying the AD for approved repair data is unknown. It is not possible to address existing repairs which may require an AMOC. The various repair configurations and locations are unknown and therefore cannot be addressed at this time. If the required inspections result in a significant number of repairs, operators and/or the original equipment manufacturer can request a global AMOC for repair data using the procedures in paragraph (i) of this AD.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Boeing Alert Service Bulletin 757-53A0099, dated September 18, 2014. The service information describes procedures for detailed and high frequency eddy current (HFEC) inspections for cracking in the fuselage frame at stringer 24 and stringer 25, left and right sides. This service information is reasonably available because the interested parties have access to it through their normal course of business or by the means identified in the ADDRESSES section.

Costs of Compliance

We estimate that this AD affects 652 airplanes of U.S. registry. We estimate the following costs to comply with this AD:

Estimated osts
Action | Labor cost | Parts cost | Cost per product | Cost on U.S. operators
Inspection | 68 to 83 work-hours × $85 per hour = Up to $7,055 per inspection cycle | $0 | Up to $7,055 per inspection cycle | Up to $4,599,860 per inspection cycle.

We have received no definitive data that would enable us to provide cost estimates for the on-condition actions specified in this AD.

Authority for this Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-10-05 The Boeing Company: Amendment 39-18516 ; Docket No. FAA-2015-3151; Directorate Identifier 2014-NM-242-AD.

(a) Effective Date

This AD is effective June 20, 2016.

(b) Affected ADs

None.

(c) Applicability

This AD applies to all The Boeing Company Model 757-200, -200CB, -200PF, and -300 airplanes, certificated in any category.

(d) Subject

Air Transport Association (ATA) of America Code 53, Fuselage.

(e) Unsafe Condition

This AD was prompted by a report of cracking in the fuselage frame at Station (STA) 1440, stringer 24L. We are issuing this AD to detect and correct fuselage frame fatigue cracking. Such cracking could result in loss of structural integrity and the inability to sustain loading conditions.

(f) Compliance

Comply with this AD within the compliance times specified, unless already done.

(g) Inspection

At the applicable time specified in paragraph 1.E., “Compliance,” of Boeing Alert Service Bulletin 757-53A0099, dated September 18, 2014, except as required by paragraph (h) of this AD, do detailed and high frequency eddy current inspections for cracking in the fuselage frames in Section 43 at stringer 25, left and right sides, and frames in Section 46 at stringer 24, left and right sides, in accordance with the Accomplishment Instructions of Boeing Alert Service Bulletin 757-53A0099, dated September 18, 2014.

(1) If cracking is not found, repeat the inspections at intervals not to exceed 12,000 flight cycles.

(2) If any cracking is found, before further flight, repair using a method approved in accordance with the procedures specified in paragraph (i) of this AD. Repeat the inspections at intervals not to exceed 12,000 flight cycles in unrepaired areas.

(h) Exception to Service Information Specifications

Where Boeing Alert Service Bulletin 757-53A0099, dated September 18, 2014, specifies a compliance time “after the Original Issue date of this Service Bulletin,” this AD requires compliance within the specified compliance time after the effective date of this AD.

(i) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair required by this AD if it is approved by Boeing Commercial Airplanes Organization Designation Authorization (ODA) that has been authorized by the Manager, Los Angeles ACO, to make those findings. For a repair method to be approved, the repair must meet the certification basis of the airplane, and the approval must specifically refer to this AD.

(4) Except as required by paragraph (h) of this AD: For service information that contains steps that are labeled as Required for Compliance (RC), the provisions of paragraphs (i)(4)(i) and (i)(4)(ii) apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

For more information about this AD, contact Roger Durbin, Aerospace Engineer, Airframe Branch, ANM-120L, FAA, Los Angeles ACO, 3960 Paramount Boulevard, Lakewood, CA 90712-4137; phone: 562-627-5233; fax: 562-627-5210; email: roger.durbin@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 757-53A0099, dated September 18, 2014.

(ii) Reserved.

(3) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on May 4, 2016.
Michael Kaszycki,
Acting Manager, Transport Airplane Directorate, Aircraft Certification Service.

[FR Doc. 2016-11197 Filed 5-13-16; 8:45 am]

BILLING CODE 4910-13-P